DEPARTMENT OF ENERGY

10 CFR Part 429

[Docket Number EERE-2013-BT-STD-0022]

RIN 1904-AD00

Energy Conservation Program: Energy Conservation Standards for Refrigerated Bottled or Canned Beverage Vending Machines; Correction

AGENCY: Office of Energy Efficiency and Renewable Energy, Department of Energy.

ACTION: Final rule; correcting amendment.

SUMMARY: On January 8, 2016, the U.S. Department of Energy published a final rule amending energy conservation standards for bottled and refrigerated beverage vending machines (beverage vending machines). This correction addresses a technical error in that final rule.

DATES: Effective April 25, 2016.

FOR FURTHER INFORMATION CONTACT:

Mr. John Cymbalsky, U.S. Department of Energy, Office of Energy Efficiency and Renewable Energy, Building Technologies Office, EE-5B, 1000 Independence Avenue SW., Washington, DC 20585-0121. Telephone: (202) 287-1692. Email: refrigerated_beverage_vending_machines@ee.doe.gov.

Ms. Sarah Butler, U.S. Department of Energy, Office of the General Counsel, GC-33, 1000 Independence Avenue SW., Washington, DC 20585-0121. Telephone: (202) 586-1777. Email: Sarah.Butler@hq.doe.gov.

SUPPLEMENTARY INFORMATION: The U.S. Department of Energy (DOE) published a final rule in the Federal Register on January 8, 2016 (“the January 2016 final rule”) amending and establishing energy conservation standards for beverage vending machines. (81 FR 1027). As part of that final rule, DOE amended 10 CFR 429.134 to add a paragraph (g), which addresses product-specific enforcement provisions that DOE will use to verify the appropriate equipment class and refrigerated volume during enforcement testing for beverage vending machines. This correction addresses the placement of those provisions under 10 CFR 429.134 at paragraph (g). At the time of publication of the January 2015 final rule, 10 CFR 429.134(g) already existed. In order to remedy this error, DOE is issuing this final rule correction to add these provisions at 10 CFR 429.134(j).

Correction

In final rule FR Doc. 2015-33074, published in the issue of Wednesday, January 8, 2016 (81 FR 1027), make the following correction:

On page 1112, in the second and third columns, remove amendatory instruction 3.

List of Subjects in 10 CFR Part 429

Confidential business information, Energy conservation, Household appliances, Imports, Reporting and recordkeeping requirements.

For the reasons set forth in the preamble, 10 CFR part 429 is corrected as follows:

PART 429—CERTIFICATION, COMPLIANCE, AND ENFORCEMENT FOR CONSUMER PRODUCTS AND COMMERCIAL AND INDUSTRIAL EQUIPMENT

1. The authority citation for part 429 continues to read as follows:

Authority: 42 U.S.C. 6291-6317.

2. Section 429.134 is amended by adding paragraph (j) to read as follows:

§ 429.134 Product-specific enforcement provisions.

* * * * *

(j) Refrigerated bottled or canned beverage vending mMachines—(1) Verification of refrigerated volume. The refrigerated volume (V) of each tested unit of the basic model will be measured pursuant to the test requirements of 10 CFR 431.296. The results of the measurement(s) will be compared to the representative value of refrigerated volume certified by the manufacturer. The certified refrigerated volume will be considered valid only if the measurement(s) (either the measured refrigerated volume for a single unit sample or the average of the measured refrigerated volumes for a multiple unit sample) is within five percent of the certified refrigerated volume.

(i) If the representative value of refrigerated volume is found to be valid, the certified refrigerated volume will be used as the basis for calculation of maximum daily energy consumption for the basic model.

(ii) If the representative value of refrigerated volume is found to be invalid, the average measured refrigerated volume determined from the tested unit(s) will serve as the basis for calculation of maximum daily energy consumption for the tested basic model.

(2) Verification of surface area, transparent, and non-transparent areas. The percent transparent surface area on the front side of the basic model will be measured pursuant to these requirements for the purposes of determining whether a given basic model meets the definition of Class A or Combination A, as presented at 10 CFR 431.292. The transparent and non-transparent surface areas shall be determined on the front side of the beverage vending machine at the outermost surfaces of the beverage vending machine cabinet, from edge to edge, excluding any legs or other protrusions that extend beyond the dimensions of the primary cabinet. Determine the transparent and non-transparent areas on each side of a beverage vending machine as described in paragraphs (j)(2)(i) and (ii) of this section. For combination vending machines, disregard the surface area surrounding any refrigerated compartments that are not designed to be refrigerated (as demonstrated by the presence of temperature controls), whether or not it is transparent. Determine the percent transparent surface area on the front side of the beverage vending machine as a ratio of the measured transparent area on that side divided by the sum of the measured transparent and non-transparent areas, multiplying the result by 100.

(i) Determination of transparent area. Determine the total surface area that is transparent as the sum of all surface areas on the front side of a beverage vending machine that meet the definition of transparent at 10 CFR 431.292. When determining whether or not a particular wall segment is transparent, transparency should be determined for the aggregate performance of all the materials between the refrigerated volume and the ambient environment; the composite performance of all those materials in a particular wall segment must meet the definition of transparent for that area be treated as transparent.

(ii) Determination of non-transparent area. Determine the total surface area that is not transparent as the sum of all surface areas on the front side of a beverage vending machine that are not considered part of the transparent area, as determined in accordance with paragraph (j)(2)(i) of this section.

Issued in Washington, DC, on February 9, 2016.
Kathleen Hogan,
Deputy Assistant Secretary for Energy Efficiency, Energy Efficiency and Renewable Energy.

[FR Doc. 2016-09555 Filed 4-22-16; 8:45 am]

BILLING CODE 6450-01-P